DEPARTMENT OF TRANSPORTATION

Federal Railroad Administration

[Docket Number FRA-2013-0080]

Petition for Waiver of Compliance

In accordance with Part 211 of Title 49 Code of Federal Regulations (CFR), this document provides the public notice that by a document dated July 19, 2013, the Association of American Railroads (AAR), on behalf of itself and its member railroads, has petitioned the Federal Railroad Administration (FRA) for a waiver of compliance from certain provisions of the Federal railroad safety regulations contained at 49 CFR Part 232, Brake System Safety Standards for Freight and Other Non-Passenger Trains and Equipment; End-of-Train Devices. FRA assigned the petition Docket Number FRA-2013-0080.

In its petition, AAR seeks a waiver of compliance from 49 CFR 232.207, Class IA brake tests—1,000-mile inspection. Excluding 49 CFR 232.213, the current rule states that each train shall receive a Class 1A brake test performed by a qualified person, as defined in § 232.5, at a location that is not more than 1,000 miles from the point where any car in the train last received a Class 1 or 1A brake test. AAR petitioned FRA for a 1-year limited waiver for the purpose of demonstrating that a subsequent permanent waiver will improve safety and eliminate unnecessary costs to the industry.

Through a limited pilot effort AAR intends to demonstrate the effectiveness of using wayside wheel temperature detector (WTD) data to ensure safe braking performance. The focus of this pilot will be the normal revenue service coal trains running on the Union Pacific Railroad between Wyoming's Powder River Basin and an unloading facility at White Bluff, AR, which is a round trip of approximately 2,600 miles. The WTD that monitors the system is located at Sheep Creek, WY. Each test train will receive a Class 1 brake test in accordance with § 232.205 and a pre-departure inspection in accordance with § 215.13 at North Platte, NE. The trains will leave North Platte and travel to a coal loading facility in the Powder River Basin. On the return trip, the trains will pass the WTD monitors at Sheep Creek for a braking performance recording. They will continue through Van Buren, AR, and then to an unloading facility in White Bluff, AR. The train cars will return to the terminus at North Platte via Van Buren.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 21, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC.
Robert C. Lauby,
Deputy Associate Administrator for Regulatory and Legislative Operations.

[FR Doc. 2013-21691 Filed 9-5-13; 8:45 am]

BILLING CODE 4910-06-P